DEPARTMENT OF ENERGY

Federal Energy Regulatory Commission

[Project No. 7920-006]

Tridam Energy LLC, Madko Hydro LLC; Notice of Transfer of Exemption

1. On October 13, 2023, Tridam Energy LLC filed a notification of the transfer for the 150-kilowatt Waterloom Falls Hydroelectric Project No. 7920 from Tridam Energy LLC to Madko Hydro LLC. The exemption from licensing was originally issued on March 11, 1985.¹ The project is located on the Merrimack River, Hillsboro County, New Hampshire. The transfer of an exemption does not require Commission approval.

¹ Alden T. Greenwood (Environmental Assessment 1985). Subsequently, on June 6, 2014, the project was transferred to Tridam Energy LLC.

2. Madko Hydro LLC is now the exemptee of the Waterloom Falls Hydroelectric Project No. 7920. All correspondence must be forwarded to Jacob Komar, Madko Hydro LLC, 94 River Road, New Ipswich, NH 03071, Phone: 860-214-3219, Email: jacobkomar@me.com.

Dated: November 9, 2023.
Kimberly D. Bose,
Secretary.

[FR Doc. 2023-25401 Filed 11-16-23; 8:45 am]

BILLING CODE 6717-01-P